DEPARTMENT OF TRANSPORTATION

Federal Aviation Administration

Thirty Fourth RTCA SC-213 Enhanced Flight Vision Systems/Synthetic Vision Systems (EFVS/SVS) Plenary Joint With EUROCAE WG-79

AGENCY: Federal Aviation Administration (FAA), U.S. Department of Transportation (DOT).

ACTION: Thirty Fourth RTCA SC-213 Enhanced Flight Vision Systems/Synthetic Vision Systems (EFVS/SVS) Plenary Joint with EUROCAE WG-79.

SUMMARY: The FAA is issuing this notice to advise the public of a meeting of Thirty Fourth RTCA SC-213 Enhanced Flight Vision Systems/Synthetic Vision Systems (EFVS/SVS) Plenary Joint with EUROCAE WG-79.

DATES: The meeting will be held August 17, 2017, 11:00 a.m.-1:00 p.m.

ADDRESSES: The meeting will be held virtually and at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty Fourth RTCA SC-213 Enhanced Flight Vision Systems/Synthetic Vision Systems (EFVS/SVS) Plenary Joint with EUROCAE WG-79. The agenda will include the following:

August 17, 2017 11:00 a.m.-1:00 p.m.

1. Welcome/Administrative Duties

2. IPR/Membership Call-Out and Introductions

3. Acceptance of Meeting Minutes From the 32nd Joint Plenary of SC-213/WG-72

4. Review Final Review and Comment Resolutions for the AVA SVS MASPS

5. New Business

6. Review Action Items

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15601 Filed 7-25-17; 8:45 am]

BILLING CODE 4910-13-P